GENERAL SERVICES ADMINISTRATION

[Notice-2015-PM-03; Docket No. 2015-0002; Sequence No. 18]

Notice of Public Meeting for the Supplemental Draft Environmental Impact Statement for the Federal Bureau of Investigation Central Records Complex in Winchester County, Virginia

AGENCY: General Services Administration (GSA).

ACTION: Meeting notice.

SUMMARY: Pursuant to the National Environmental Policy Act (NEPA) of 1969, as implemented by the Council on Environmental Quality regulations, the GSA has prepared and filed with the Environmental Protection Agency (EPA), a Supplement to the Final Environmental Impact Statement (EIS), from May 2007, analyzing the environmental impacts of site acquisition and development of the Federal Bureau of Investigation (FBI), Central Records Complex (CRC), in Winchester County, Virginia.

DATES: Effective Date: August 21, 2015. The public may submit comments on the Supplemental Draft EIS during a 45-day public review and comment period beginning Friday, August 21, 2015, and ending on Monday, October 5, 2015. Instructions for submitting comments may be found under the heading Supplemental Information in this notice.

Public Meeting: A public information meeting is scheduled for Thursday, September 10, 2015 between 6:00 p.m. and 8:00 p.m., Eastern Standard Time (EST), at the War Memorial Building Social Hall at Jim Barnett Park, located at 1001 East Cork Street, Winchester, VA 22601.

FOR FURTHER INFORMATION CONTACT: Ms. Courtenay Hoernemann, Project Environmental Planner, 20 N 8th Street, Philadelphia PA 19107 at 215-446-4710.

ADDRESSES: Send written comments by email to frederick.va.siteacquisition@gsa.gov, or U.S. Postal Service to Courtenay Hoernemann, Project Environmental Planner, 20 N 8th Street, Philadelphia, PA 19107.

SUPPLEMENTARY INFORMATION: Background: The proposed FBI facility would consolidate the FBI's records currently housed within the Washington DC area, in addition to field offices and information technology centers nationwide. The project requirements are for an overall square footage of 256,425 gross square feet, and will include the records storage building, support area, visitor's screening facility, service center, and guard booth. Parking is proposed at 427 spaces. A Notice of Intent to prepare a Supplemental Draft EIS was published in the Federal Register at 80 FR 8311 on February 17, 2015. A public scoping comment period was held for 30 days following publication of the Notice of Intent.

The alternatives fully evaluated in the Supplemental Draft EIS include the No Action Alternative, the Arcadia Route 50 property, and Whitehall Commerce Center.

The Supplemental Draft EIS incorporates by reference and builds upon the analyses presented in the 2007 Final EIS, and documents the Section 106 process under the National Historic Preservation Act of 1966, as amended (36 CFR part 800). The Supplemental Draft EIS addresses changes to the proposed action relevant to environmental concerns and assesses any new circumstances or information relevant to potential environmental impacts.

The Supplemental Draft EIS has been distributed to various federal, state, and local agencies. The Supplemental Draft EIS is available for review on the project Web site http://www.fbicrc-seis.com. A printed copy of the Supplemental Draft EIS is available for viewing at the following libraries:

• Handley Library, 100 West Piccadilly Street, P.O. Box 58, Winchester, VA 22604

• Bowman Library, 871 Tasker Road, P.O. Box 1300, Stephens City, VA 22655

• Smith Library, Shenandoah University, 718 Wade Miller Drive, Winchester, VA 22601

Federal, state, and local agencies, and other interested parties, are invited and encouraged to be present or represented at the public meeting on Thursday, September 10, 2015. All formal comments will become part of the public record and substantive comments will be responded to in the Final Supplemental EIS.

Public Comments: Comments on the Supplemental Draft EIS can be submitted three ways: (1) Submit comments via the project email address: frederick.va.siteacquisition@gsa.gov, (2) provide written comments during the public meeting, or (3) mail a comment form or letter to: Ms. Courtenay Hoernemann, Project Environmental Planner, 20 N. 8th Street, Philadelphia, PA 19107. Written comments postmarked by October 5, 2015 will become part of the official public record.

Public Meeting: The format will be open house with informational posters on display, and representatives from GSA and FBI will be available to explain the proposed project, answer questions, and receive comments from the public. Comment forms will be available for the public to provide formal written comments.

Dated: August 14, 2015.
John Hofmann,
Division Director, Facilities Management & Services Programs Division, General Services Administration, Mid-Atlantic Region.

[FR Doc. 2015-20532 Filed 8-19-15; 8:45 am]

BILLING CODE 6820-89-P